DEPARTMENT OF COMMERCE

Foreign-Trade Zones Board

[B-68-2021]

Foreign-Trade Zone (FTZ) 38—Spartanburg County, South Carolina; Notification of Proposed Production Activity; BMW Manufacturing Company, LLC (Passenger Motor Vehicles); Spartanburg, South Carolina

BMW Manufacturing Company, LLC (BMW MC) submitted a notification of proposed production activity to the FTZ Board (the Board) for its facility in Spartanburg, South Carolina within Subzone 38A. The notification conforming to the requirements of the Board's regulations (15 CFR 400.22) was received on October 22, 2021.

Pursuant to 15 CFR 400.14(b), FTZ production activity would be limited to the specific foreign-status components described in the submitted notification (summarized below) and subsequently authorized by the Board. The benefits that may stem from conducting production activity under FTZ procedures are explained in the background section of the Board's website—accessible via www.trade.gov/ftz. The proposed components would be added to the production authority that the Board previously approved for the operation, as reflected on the Board's website.

The proposed foreign-status components include 48-volt lithium-ion batteries and non-rubber brake lines (duty rate ranges from duty-free to 2.7%). The request indicates that the materials are subject to duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is December 13, 2021.

A copy of the notification will be available for public inspection in the “Online FTZ Information System” section of the Board's website.

For further information, contact Christopher Wedderburn at Chris.Wedderburn@trade.gov.

Dated: October 27, 2021.
Andrew McGilvray,
Executive Secretary.

[FR Doc. 2021-23686 Filed 10-29-21; 8:45 am]

BILLING CODE 3510-DS-P